DEPARTMENT OF HEALTH AND HUMAN SERVICES

Health Resources and Services Administration

Agency Information Collection Activities: Submission to OMB for Review and Approval; Public Comment Request; Evaluation of the Maternal and Child Health Bureau Pediatric Mental Health Care Access Program and the Screening and Treatment for Maternal Mental Health and Substance Use Disorders Program

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than November 8, 2024.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Joella Roland, the HRSA Information Collection Clearance Officer, at paperwork@hrsa.gov or call (301) 443-3983.

SUPPLEMENTARY INFORMATION: Information Collection Request Title: Evaluation of the Maternal and Child Health Bureau Pediatric Mental Health Care Access Program and the Screening and Treatment for Maternal Mental Health and Substance Use Disorders Program, OMB No. 0906-xxxx—New.

Abstract: This notice describes information collection requests for two of HRSA's Maternal and Child Health Bureau programs: the Pediatric Mental Health Care Access (PMHCA) program and the Screening and Treatment for Maternal Mental Health and Substance Use Disorders (MMHSUD) program. The PMHCA program aims to promote behavioral health integration into pediatric primary care by developing and supporting state, regional, and tribal pediatric mental health care teleconsultation access programs. The MMHSUD program aims to support maternity care providers and clinical practices by supporting the development, improvement, and/or maintenance of statewide or regional behavioral health networks. Both programs support health professionals (HPs) ¹ in their delivery of high-quality and timely screening, assessment, treatment, and referrals for their targeted populations (e.g., children, adolescents, and young adults for PMHCA programs; pregnant and postpartum people for MMHSUD programs) through the provision of clinical behavioral health teleconsultation, care coordination support/navigation (i.e., resource identification and referrals), and training and education. Additionally, the PMHCA and MMHSUD programs focus on reducing racial, ethnic, and geographic disparities in access to care, especially in rural and other underserved areas.

¹ HPs may include, but are not limited to, pediatricians, family physicians, adult primary care clinicians, obstetrician-gynecologists, physician assistants, advanced practice nurses/nurse practitioners, licensed practical nurses, registered nurses, nurse midwives, counselors, behavioral health clinicians, social workers, care coordinators, medical assistants, and patient care navigators.

The information will be collected from PMHCA and MMHSUD award recipient programs funded in 2021, 2022, or 2023 and from participants in and stakeholders of those programs:

• The 2021 and 2022 PMHCA programs are authorized by 42 U.S.C. 254c-19 (sec. 330M of the Public Health Service Act), using funding provided by Section 2712 of the American Rescue Plan Act of 2021 (Pub. L. 117-2).

• The 2023 PMHCA programs are authorized by 42 U.S.C. 254c-19 (sec. 330M of the Public Health Service Act), as amended by Section 11005 of the Bipartisan Safer Communities Act (Pub. L. 117-159).

• The 2023 MMHSUD programs are authorized by 42 U.S.C. 247b-13a (sec. 317L-1 of the Public Health Service Act).

To evaluate progress made toward the programs' goals, this data collection will use the following eight instruments: (1) HP Survey, (2) Practice-Level Survey, (3) Program Implementation Survey, (4) Behavioral Health Consultation Provider Semi-Structured Interview (SSI), (5) Care Coordinator SSI, (6) Champion SSI, (7) Community-Based and Other Resources SSI, and (8) Program Implementation SSI.

A 60-day notice was published in the Federal Register on May 28, 2024, 89 FR 46143-44. HRSA received two public comments, which included 13 recommendations. All recommendations were considered, as detailed below, and no changes were made to the current information collection described in this notice as a result of the recommendations.

Two recommendations focused on defining terms. One recommended use of the term “mental and behavioral health” in place of “behavioral health” and “infant, child, and adolescent” in place of “child and adolescent” in any survey language. HRSA selected “behavioral health” as the most concise and accepted term after consideration of definitions from national associations, federal agencies, and experts in the field. HRSA noted that the “child and adolescent” terminology is not used in the surveys for the HRSA evaluation of the PMHCA and MMHSUD programs. Another recommended that HRSA define PMHCA program training activities. In the Notices of Funding Opportunity that awardees responded to, HRSA describes various modalities/formats for training (e.g., Project Extension for Community Health Care Outcomes, Resource for Advancing Children's Health, learning collaboratives, in person, synchronous, asynchronous) as well as potential topics for training (e.g., psychiatric disorders and medications, screening and treatment protocols, practice transformation processes, trauma-informed care). Reflective of training-related program requirements, HRSA will collect data on the number of trainings attended by HPs, modality for training received, the number of providers trained, the number of trainings by topic, training methods, and materials used. Training is defined in the surveys using the survey question response options (e.g., in-person training event, webinar, self-study with program resources, video conferencing, learning collaborative [Project Extension for Community Health Care Outcomes, Resource for Advancing Children's Health], and others).

Three recommendations discussed data: the need for data to be comparable across PMHCA programs while still considering differences across these programs; ensuring data collection is conducted in a manner that is clear and relevant for the full range of anticipated data collection participants (e.g., HPs, program champions, community resource representatives); and the value of data to inform understanding of differences in rural, urban, and suburban access to behavioral health care. No changes will be made to the information collection forms in response to these recommendations because the data collection instruments are already responsive to these points. First, HRSA will record and analyze program differences such as program structure, funding, history, and size to help inform data findings across program types. Second, HRSA will collect data about settings in which patients live, and about practice setting, with response options including urban, suburban, rural, and frontier. Surveys also collect the ZIP Code of the primary clinical practice. While specific data on travel for mental and behavioral health care will not be collected, the Care Coordinator SSIs will provide qualitative insights on barriers to referrals, geographic areas of referrals, and strategies to mitigate barriers, which may include addressing travel time.

One recommendation expressed concerns about HRSA's plan to assess changes over time in health practitioners' capacity to address patients' mental and behavioral health and access to mental and behavioral health care through screening indicating that PMHCA programs are typically most valuable after the need for mental or behavioral health interventions has been identified rather than in conducting initial screenings. For this data collection, HRSA has operationalized capacity broadly as behavioral health knowledge, skills, practice, and attitudes. Evaluation questions focus on change in knowledge and skills; screening, assessment, treatment, and referral; attitudes about providing behavioral health care; and how change over time differed based on frequency and modality of program access, treatment location, demographics, and treatment settings. These questions allow HRSA to measure changes in these different aspects of provider capacity and describe how these changes differ across the contexts listed above (e.g., treatment location, treatment settings).

Four recommendations supported collecting patient-level data and the use of accessible automated collection techniques and minimally invasive software and strategies. HRSA disclosed that patient level data will not be collected under this information collection. All technology used for the survey administration will meet federal requirements for Section 508 accessibility. Survey data collection for the evaluation will be primarily through web-linked survey administered via email and via survey platform. Qualitative data collection and SSIs will be conducted virtually (e.g., Microsoft Teams, Zoom).

One recommendation supported the proposed mixed evaluation plan and approach. HRSA will implement outcome and process evaluations, using a mixed-methods design, with primary and secondary quantitative and qualitative data collection activities across all awardees.

One recommendation expressed support of the estimated burden and asked how grantees will proceed if they do not employ a likely respondent. HRSA will not require participation in that data collection activity if an awardee does not employ a likely respondent.

One recommendation suggested that HRSA brand HRSA-MMHSUD programming in marketing leading up to the evaluation so that providers can more easily respond to questions. HRSA has developed a promotion packet of materials with branding guidance and customizable messages for awardees to use to (1) increase HP and practice engagement with their programs and (2) encourage participation in evaluation surveys. Additionally, the surveys will be customized for each program with the program name and logo, as applicable.

Need and Proposed Use of the Information: HRSA needs this information to evaluate the PMHCA and MMHSUD programs to guide future decisions regarding increasing HPs' capacity to address patients' behavioral health and access to behavioral health services. Specifically, data collected for the evaluation will be used to study the efforts of the PMHCA and MMHSUD programs to achieve key outcomes (e.g., increase in access to behavioral health services; HPs trained; identification of community-based resources, including counselors or family service providers) and to measure whether and to what extent awardee programs are associated with changes in these outcomes. The evaluation will examine changes over time across PMHCA and MMHSUD programs, regarding the PMHCA- and MMHSUD-enrolled/participating HPs' and practices' (1) capacity to address patients' behavioral health and access to behavioral health care, through screening, assessment, treatment, and referral for behavioral health conditions; and (2) use of program services (e.g., consultation, care coordination, training).

Likely Respondents:

• HP Survey: Pediatricians, family physicians, obstetrician-gynecologists, physician assistants, advanced practice nurses/nurse practitioners, licensed practical nurses, registered nurses, counselors, social workers, medical assistants, and patient care navigators

• Practice-Level Survey: Practice managers (e.g., office managers, office leadership, nurse champions)

• Program Implementation Survey: Cooperative agreement-funded project directors/principal investigators

• Behavioral Health Consultation Provider SSI: PMHCA and MMHSUD program-level behavioral health consultation providers

• Care Coordinator SSI: PMHCA and MMHSUD program-level care coordinators

• Champion SSI: PMHCA and MMHSUD program champions (e.g., HPs, community, and social service specialists)

• Community-Based and Other Resources SSI: PMHCA and MMHSUD program-level community resource partner representatives (e.g., counselors, social workers, other community and social service specialists, other HPs/support workers, practice/organization managers)

• Program Implementation SSI: Cooperative agreement-funded project directors/principal investigators

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

The burden estimates below have changed from the estimates of burden provided in the previous notice (60-day notice published on May 28, 2024, 89 FR 46143-44). The estimated burden total is slightly higher in this revised notice because it incorporates estimates for an MMHSUD program that was funded following submission of the previous notice.

Total Estimated Annualized Burden Hours
Form name | Number of respondents | Number of responses per respondent | Total responses | Average burden per response (in hours) | Total burden hours
HP Survey | 23,256 | 1 | 23,256 | 0.33 | 7,674.48
Practice-Level Survey | 6,172 | 1 | 6,172 | 0.33 | 2,036.76
Program Implementation Survey | 67 | 1 | 67 | 0.33 | 22.11
Behavioral Health Consultation Provider SSI | 67 | 1 | 67 | 0.75 | 50.25
Care Coordinator SSI | 67 | 1 | 67 | 0.75 | 50.25
Champion SSI | 67 | 1 | 67 | 0.50 | 33.50
Community-Based and Other Resources SSI | 50 | 1 | 50 | 0.50 | 25.00
Program Implementation SSI | 134 | 1 | 134 | 1.00 | 134.00
Total | 29,880 |  | 29,880 |  | 10,026.35

Amy P. McNulty,
Deputy Director, Executive Secretariat.

[FR Doc. 2024-23293 Filed 10-8-24; 8:45 am]

BILLING CODE 4165-15-P